SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: June 1-30, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above.

Water Source Approval—Issued Under 18 CFR 806.22(e):

1. Niagara Bottling, LLC; Big Spring Facility; ABR-202306001; Boggs Township, Centre County, Pa.; Consumptive Use of Up to 1.0000 mgd; Approval Date: June 14, 2023.

Water Source Approval—Issued Under 18 CFR 806.22(f):

1. BKV Operating, LLC; Pad ID: Plushanski Well Pad; ABR-201806001.R1; Lemon Township, Wyoming County, Pa.; Consumptive Use of Up to 2.1000 mgd; Approval Date: June 14, 2023.

2. Chesapeake Appalachia, L.L.C.; Pad ID: Porter; ABR-201306001.R2; North Branch Township, Wyoming County, Pa.; Consumptive Use of Up to 7.5000 mgd; Approval Date: June 14, 2023.

3. Chesapeake Appalachia, L.L.C.; Pad ID: Shamrock; ABR-201306003.R2; Windham Township, Wyoming County, Pa.; Consumptive Use of Up to 7.5000 mgd; Approval Date: June 14, 2023.

4. Chesapeake Appalachia, L.L.C.; Pad ID: Tinna; ABR-201306002.R2; Mehoopany Township, Wyoming County, Pa.; Consumptive Use of Up to 7.5000 mgd; Approval Date: June 14, 2023.

5. Coterra Energy Inc.; Pad ID: GillinghamR P1; ABR-201305017.R2; Forest Lake Township, Susquehanna County, Pa.; Consumptive Use of Up to 5.0000 mgd; Approval Date: June 14, 2023.

6. Coterra Energy Inc.; Pad ID: HaynesW P1; ABR-201706001.R1; Harford Township, Susquehanna County, Pa.; Consumptive Use of Up to 5.0000 mgd; Approval Date: June 14, 2023.

7. Coterra Energy Inc.; Pad ID: WaldenbergerP P1; ABR-201206002.R2; Dimock Township, Susquehanna County, Pa.; Consumptive Use of Up to 5.0000 mgd; Approval Date: June 14, 2023.

8. Range Resources—Appalachia, LLC; Pad ID: Laurel Hill B Unit; ABR-201306004.R2; Cogan House Township, Lycoming County, Pa.; Consumptive Use of Up to 4.0000 mgd; Approval Date: June 14, 2023.

9. Seneca Resources Company, LLC; Pad ID: Wood 626; ABR-201106006.R2; Sullivan Township, Tioga County, Pa.; Consumptive Use of Up to 4.0000 mgd; Approval Date: June 14, 2023.

10. Chesapeake Appalachia, L.L.C.; Pad ID: Brewer; ABR-201306007.R2; Meshoppen Township, Wyoming County, Pa.; Consumptive Use of Up to 7.5000 mgd; Approval Date: June 21, 2023.

11. Coterra Energy Inc.; Pad ID: ReynoldsR P1; ABR-201306008.R2; Jessup Township, Susquehanna County, Pa.; Consumptive Use of Up to 5.0000 mgd; Approval Date: June 21, 2023.

12. Repsol Oil & Gas USA, LLC; Pad ID: THORNE (07 080) G; ABR-201306005.R2; Apolacon Township, Susquehanna County, Pa.; Consumptive Use of Up to 6.0000 mgd; Approval Date: June 21, 2023.

13. Repsol Oil & Gas USA, LLC; Pad ID: TRAVER (07 081) E; ABR-201306006.R2; Choconut Township, Susquehanna County, Pa.; Consumptive Use of Up to 6.0000 mgd; Approval Date: June 21, 2023.

14. Chesapeake Appalachia, L.L.C.; Pad ID: ODowd; ABR-201305006.R2; Auburn Township, Susquehanna County, Pa.; Consumptive Use of Up to 7.5000 mgd; Approval Date: June 22, 2023.

15. Coterra Energy Inc.; Pad ID: BishopB P1; ABR-201305013.R2; Springville Township, Susquehanna County, Pa.; Consumptive Use of Up to 5.0000 mgd; Approval Date: June 22, 2023.

16. Chesapeake Appalachia, L.L.C.; Pad ID: Spencer Drilling Pad; ABR-201306010.R2; Lenox Township, Susquehanna County, Pa.; Consumptive Use of Up to 7.5000 mgd; Approval Date: June 29, 2023.

17. Seneca Resources Company, LLC; Pad ID: Fuller 826; ABR-201606005.R1; Middlebury Township, Tioga County, Pa.; Consumptive Use of Up to 4.0000 mgd; Approval Date: June 29, 2023.

Authority: Public Law 91-575, 84 Stat. 1509 et seq., 18 CFR parts 806 and 808.

Dated: July 6, 2023.
Jason E. Oyler,
General Counsel and Secretary to the Commission.

[FR Doc. 2023-14677 Filed 7-11-23; 8:45 am]

BILLING CODE 7040-01-P